DEPARTMENT OF THE INTERIOR

National Park Service

[NPS-WASO-NAGPRA-NPS0038562; PPWOCRADN0-PCU00RP14.R50000]

Notice of Intended Repatriation: California Department of Parks and Recreation, Sacramento, CA

AGENCY: National Park Service, Interior.

ACTION: Notice.

SUMMARY: In accordance with the Native American Graves Protection and Repatriation Act (NAGPRA), the California Department of Parks and Recreation intends to repatriate certain cultural items that meet the definition of objects of cultural patrimony and that have a cultural affiliation with the Indian Tribes or Native Hawaiian organizations in this notice.

DATES: Repatriation of the cultural items in this notice may occur on or after September 23, 2024.

ADDRESSES: Dr. Leslie L. Hartzell, NAGPRA Coordinator, California Department of Parks and Recreation, P.O. Box 942896, Sacramento, CA 94296-0001, telephone (916) 653-5910, email Leslie.Hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in the summary or related records. The National Park Service is not responsible for the determinations in this notice.

Abstract of Information Available

A total of 54 lots of cultural items have been requested for repatriation. The objects of cultural patrimony are modified bone, modified shell, modified stone, and unmodified bone.

CA-PLA-158

In 1975-76, one lot of an object of cultural patrimony was removed from CA-PLA-158 (ACCN.P159), Placer County, CA. The object was removed as part of a surface survey to determine the feasibility and impact of day-use facilities. This survey was overseen by the California Department of Parks and Recreation. The object of cultural patrimony is modified stone.

CA-PLA-243 and CA-PLA-244

In 1977, 22 lots of cultural items were removed from CA-PLA-243 and CA-PLA-244 (ACCN.P228), Placer County, CA. The California Department of Parks and Recreation removed the objects during a surface survey. The items of cultural patrimony are modified stone.

CA-PLA-254

In 1977, one lot of cultural items was removed from CA-PLA-254 (ACCN.P228) Placer County, CA. The California Department of Parks and Recreation removed the objects during a surface survey. The items of cultural patrimony are modified stone.

CA-PLA-259

In 1977, two lots of cultural items was removed from CA-PLA-259 (ACCN.P228), Placer County, CA. The California Department of Parks and Recreation removed the objects during a surface survey. The items of cultural patrimony are modified stone.

CA-SUT-57

The 23 lots of cultural items were removed from CA-SUT-57 (ACCN.P388), Sutter County, CA, which was accessioned into California Department of Parks and Recreation in or before 1982. The objects of cultural patrimony are modified bone, modified shell, modified stone, and unmodified bone.

CA-SUT-167/H

From 2004-05, two lots of objects of cultural patrimony were removed from CA-SUT-167/H (ACCN.P1420) Sutter County, CA. The objects were found during a surface survey. The object of cultural patrimony is modified stone.

CA-SUT-212/H

From 2004-05, one lot of an object of cultural patrimony was removed from Sutter County, CA. The object was found during a surface survey. The cultural items are modified stone.

Sutter County Isolate (SUT-ISO)

From 2004-05, one lot of an object of cultural patrimony was removed from SUT-ISO (ACCN.1420), Sutter County, CA. The object was found during a surface survey. The cultural items are modified stone.

CA-YUB-13

In December 1959, one lot of cultural items was removed from CA-YUB-13 (ACCN.230), Yuba County, CA. The excavation was directed by the California Department of State Parks. The objects of cultural patrimony are unmodified bone.

Determinations

The California Department of Parks and Recreation has determined that:

• The 54 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Cachil DeHe Band of Wintun Indians of the Colusa Indian Community of the Colusa Rancheria, California; Enterprise Rancheria of Maidu Indians of California; Ione Band of Miwok Indians of California; Mooretown Rancheria of Maidu Indians of California; Shingle Springs Band of Miwok Indians, Shingle Springs Rancheria (Verona Tract), California; United Auburn Indian Community of the Auburn Rancheria of California; Wilton Rancheria, California; and the Yocha DeHe Wintun Nation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 23, 2024. If competing requests for repatriation are received, the California Department of Parks and Recreation must determine the most appropriate requestor prior to repatriation. Requests for joint repatriation of the cultural items are considered a single request and not competing requests. The California Department of Parks and Recreation is responsible for sending a copy of this notice to the Indian Tribes and Native Hawaiian organizations identified in this notice and to any other consulting parties.

Authority: Native American Graves Protection and Repatriation Act, 25 U.S.C. 3004 and the implementing regulations, 43 CFR 10.9.

Dated: August 20, 2024.
Melanie O'Brien,
Manager, National NAGPRA Program.

[FR Doc. 2024-18963 Filed 8-22-24; 8:45 am]

BILLING CODE 4312-52-P